DEPARTMENT OF TRANSPORTATION

National Highway Traffic Safety Administration

[Docket No. NHTSA-2021-0015; Notice 1]

Toyota Motor North America, Inc., Receipt of Petition for Decision of Inconsequential Noncompliance

AGENCY: National Highway Traffic Safety Administration (NHTSA), Department of Transportation (DOT).

ACTION: Receipt of petition.

SUMMARY: Toyota Motor North America, Inc. (TMNA) on behalf of Toyota Motor Corporation (TMC) (collectively referred to as “Toyota”), has determined that certain model year (MY) 2020-2021 Toyota C-HR motor vehicles do not fully comply with Federal Motor Vehicle Safety Standard (FMVSS) No. 110, Tire Selection and Rims and Motor Home/Recreation Vehicle Trailer Load Carrying Capacity Information for Motor Vehicles with a GVWR of 4,536 Kilograms (10,000 pounds) or Less. Toyota filed a noncompliance report dated February 3, 2021, and subsequently petitioned NHTSA on February 26, 2021, for a decision that the subject noncompliance is inconsequential as it relates to motor vehicle safety. This notice announces receipt of Toyota's petition.

DATES: Send comments on or before May 24, 2021.

ADDRESSES: Interested persons are invited to submit written data, views, and arguments on this petition. Comments must refer to the docket and notice number cited in the title of this notice and submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal holidays.

• Electronically: Submit comments electronically by logging onto the Federal Docket Management System (FDMS) website at https://www.regulations.gov/. Follow the online instructions for submitting comments.

• Comments may also be faxed to (202) 493-2251.

Comments must be written in the English language and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the docket. The docket ID number for this petition is shown in the heading of this notice.

DOT's complete Privacy Act Statement is available for review in a Federal Register notice published on April 11, 2000 (65 FR 19477-78).

FOR FURTHER INFORMATION CONTACT: Kerrin Bressant, General Engineer, NHTSA, Office of Vehicle Safety Compliance, (202) 366-1110.

SUPPLEMENTARY INFORMATION:

I. Overview

Toyota has determined that certain MY 2020-2021 Toyota C-HR motor vehicles do not fully comply with the requirements of paragraph S4.3(d) of FMVSS No. 110, Tire Selection and Rims and Motor Home/Recreation Vehicle Trailer Load Carrying Capacity Information for Motor Vehicles with a GVWR of 4,536 Kilograms (10,000 pounds) or Less (49 CFR 571.110). Toyota filed a noncompliance report dated February 3, 2021, pursuant to 49 CFR part 573, Defect and Noncompliance Responsibility and Reports. Toyota subsequently petitioned NHTSA on February 26, 2021, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of Toyota's petition is published under 49 U.S.C. 30118 and 30120 and does not represent any Agency decision or other exercise of judgment concerning the merits of the petition.

II. Vehicles Involved

Approximately 3,981 MY 2020-2021 Toyota C-HR motor vehicles, manufactured between September 16, 2019, and November 30, 2020, are potentially involved.

III. Noncompliance

Toyota explains that the noncompliance is that the subject vehicles are equipped with tire information pressure labels that incorrectly state the tire size information for the front and rear tires and, therefore, do not fully meet the requirements specified in paragraph S4.3(d) of FMVSS No. 110. Specifically, the subject vehicles were originally equipped with 17-inch wheels, however, the tire information pressure labels indicate that the vehicles were originally equipped with 18-inch tires.

IV. Rule Requirements

Paragraph S4.3(d) of FMVSS No. 110 includes the requirements relevant to this petition. Each vehicle, except for a trailer or incomplete vehicle, shall show the information specified in S4.3 (a) through (g), and may show, at the manufacturer's option, the information specified in S4.3 (h) and (i) on a placard permanently affixed to the driver's side B-pillar. Specifically, tire size designation, indicated by the headings “size” or “original tire size” or original size” must be shown.

V. Summary of Toyota's Petition

The following views and arguments presented in this section, “V. Summary of Toyota's Petition,” are the views and arguments provided by Toyota. They have not been evaluated by the Agency and do not reflect the views of the Agency. Toyota describes the subject noncompliances and contends that the noncompliances is inconsequential as it relates to motor vehicle safety.

In support of its petition, Toyota submitted the following reasoning:

1. Toyota states that the tires installed on the vehicle (215/60R17) meet all other applicable FMVSS requirements. They are the tires that were designed for the subject vehicle and are appropriate for the maximum vehicle loads. Only the front and rear tire size information indicated on the placard is incorrect and reflects the tire size used on other grade C-HR vehicles. Further, Toyota claims, all the other information on the placard is accurate, including the spare tire size, the cold tire inflation pressure, and maximum combined weight of occupants and cargo.

Toyota believes that, because the tires installed on the vehicles are the appropriate tires for the vehicle performance and maximum loading requirements, there is no risk to motor vehicle safety.

2. Toyota says that if the vehicle owner is replacing the tires on the vehicle, the owner can notice that the tire size specified on the placard does not match the tires installed on the vehicle. Further, the 18-inch wheels are visually different because they are alloy wheels as opposed to the 17-inch wheels, which are steel. To find the correct information, the owner could check the tire size that is molded into the sidewall of each tire or check the tire size listed in the owner's manual. As required in FMVSS No. 110, the tire placard also directs the owner to “SEE OWNER'S MANUAL FOR ADDITIONAL INFORMATION.” The owner's manual specifies the appropriate tire and wheel sizes for the vehicle. The wheel size is also marked on the wheel itself.

3. Toyota also says that if the owner attempts to replace the original tires installed on the 17-inch wheel with tires of the size indicated on the incorrect placard (225/50R18), the installer would not be able to physically mount them on the 17-inch wheels and would either need to also replace the wheels with 18-inch wheels or refer to the tire size information from other sources. As stated above, the correct information is available in various locations such as the tire size indicated on the sidewall of the tires that are installed on the vehicle or the owner's manual.

4. Toyota states, that in the event that the vehicle owner decided to change the tire/wheel combination to the size indicated on the incorrect placard, the replacement tires would be appropriate for the vehicle. Other grade C-HRs, with the same maximum loading requirements, use the 225/50R18 tire/wheel combination. This tire wheel size combination is appropriate for the vehicle maximum loads.

5. Toyota claims that in similar situations, NHTSA has granted petitions for inconsequential noncompliance relating to the subject requirement of FMVSS No. 110.

a. Volkswagen Group of America, Inc., (81 FR 88728, December 8, 2016)

In their petition, Volkswagen stated that the vehicles, in that case, had a tire placard that is misprinted with an incorrect tire size as compared to the tires the vehicle was originally equipped with and therefore did not fully conform to paragraph S4.3(d) of FMVSS No. 110. Utilizing the ETRTO Tire and Rim Association Manual of 2016, NHTSA confirmed that the incorrectly listed size tires would still have a load capacity sufficient to support the listed weight limitation of occupants and cargo which is printed on the placard. Both the installed original equipment manufacturer (OEM) tires on the vehicle and the installation of the incorrect sized tires listed on those vehicles' placard, when inflated to the placard's recommended cold inflation pressure, were identified as appropriate to handle the vehicle maximum loads. Based on that information, NHTSA determined that the noncompliance, in that case, should not cause any unsafe conditions associated with the incorrect tire size listed on the placard.

Similarly, for the Toyota C-HR, the originally installed tires and the installation of the incorrect sized tires listed on the subject vehicle's placard, when inflated to the placard's recommended cold inflation pressure, are appropriate to handle the vehicle maximum loads.

b. BMW of North America, LLC., (84 FR 26505, June 6, 2019)

In their petition, BMW stated that the vehicles were equipped, as designed, with 17-inch tires but the FMVSS No. 110 tire information placard states that the vehicles were equipped with 18-inch tires. BMW also explained that the placard overstated the cold tire inflation pressure for the rear tires (it stated 240 kPa/35 psi when it should have read 220 kPa/32 psi). Instead of the information for the 17-inch tires, the placard incorrectly included the cold tire inflation pressure and tire size designation for the 18-inch tires. Therefore, BMW stated that the affected vehicles did not conform to FMVSS No. 110 S4.3(c) and 4.3(d). NHTSA agreed, in their response, that if the vehicle owner installed 18-inch tires on the vehicle, those tires at the listed cold inflation pressure would also be appropriate for the vehicle's front and rear GAWRs. In addition, NHTSA stated that, if a vehicle owner inflated his tires to the inflation pressure listed for the 18-inch tires, the result would be an increase to 240 kPa/35 psi for the rear tires and a net increase in load capacity for the vehicle overall. Alternatively, if the vehicle owner installed 18-inch tires on the vehicle, those tires at the listed cold inflation pressure would also be appropriate for the vehicle's front and rear GAWRs. The agency agreed with BMW that the noncompliance is inconsequential to motor vehicle safety and that there is no risk of possible underinflating or overloading of the tires as a result of this issue. Further, should a vehicle owner question the correct tire size or corresponding recommended cold tire inflation pressures for their vehicle, this information is available in other locations such as the sidewall markings and the owner's manual.

Similarly, for the Toyota C-HR, the installation of the incorrect sized tires listed on the subject vehicle's placard when inflated to the placard's recommended cold inflation pressure are appropriate to handle the vehicle maximum loads. In addition, as in the BMW petition, the tire size information is available in other locations such as the sidewall markings and the owner's manual. Unlike the BMW issue, however, the cold tire inflation pressure listed on the placard for the Toyota C-HR is correct.

c. DaimlerChrysler Corporation (73 FR 11462, March 3, 2008); Mercedes-Benz USA, LLC (MBUSA), (78 FR. 43967, July 22, 2013); Mercedes-Benz USA, LLC (82 FR 5640, January 18, 2017); General Motors, LLC, (84 FR 25117, May 30, 2019)

NHTSA has also previously granted at least four similar petitions for inconsequential noncompliance for the incorrect spare tire size indicated on the placard, such as those listed above.

In those cases, NHTSA determined that the noncompliance was inconsequential to motor vehicle safety for reasons that included the following: (1) Both the spare tire size indicated on the placard and the spare tire size installed on the vehicles meet the FMVSS No. 110 loading requirements when inflated to the pressure indicated on the placard; and (2) other than the vehicle placard error, the vehicles comply with all other safety performance requirements of FMVSS No. 110. These reasons also apply to the subject Toyota C-HR front and rear tires.

Toyota concludes that the subject noncompliance is inconsequential as it relates to motor vehicle safety and that its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that Toyota no longer controlled at the time it determined that the noncompliance existed. However, any decision on this petition does not relieve vehicle distributors and dealers of the prohibitions on the sale, offer for sale, or introduction or delivery for introduction into interstate commerce of the noncompliant vehicles under their control after Toyota notified them that the subject noncompliance existed.

Authority: 49 U.S.C. 30118, 30120: delegations of authority at 49 CFR 1.95 and 501.8.

Otto G. Matheke III,
Director, Office of Vehicle Safety Compliance.

[FR Doc. 2021-08456 Filed 4-22-21; 8:45 am]

BILLING CODE 4910-59-P